DEPARTMENT OF HEALTH AND HUMAN SERVICES

National Institutes of Health

National Center for Advancing Translational Sciences; Notice of Meeting

Pursuant to section 10(d) of the Federal Advisory Committee Act, as amended, notice is hereby given of a meeting of the National Center for Advancing Translational Sciences Advisory Council.

The meeting will be open to the public as indicated below, viewing virtually by WebEx. Individuals can register to view and access the meeting by the links below:

September 17, 2020 WebEx: https://nih.webex.com/nih/onstage/g.php?MTID=ec5429a67a9f4966244b7335797c7f08b.

September 18, 2020 WebEx: https://nih.webex.com/nih/onstage/g.php?MTID=e7326f004e32dc19cccaad8405367464b.

1. Go to “Event Status” on the left-hand side of page, then click “Register”. On the registration form, enter your information and then click “Submit” to complete the required registration.

2. You will receive a personalized email with the live event link.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Advancing Translational Sciences Advisory Council.

Date: September 17-18, 2020.

Closed: September 17, 2020, 11:00 a.m. to 12:30 p.m.

Agenda: To discuss internal operations, review and evaluate grant applications.

Place: National Institutes of Health, One Democracy Plaza, 9th Floor, Conference Rooms 987/989, 6701 Democracy Boulevard, Bethesda, MD 20892 (Virtual Meeting).

Open: September 17, 2020, 1:00 p.m. to 3:00 p.m.

Agenda: To view and discuss Clearance of Concepts.

Place: National Institutes of Health, One Democracy Plaza, 9th Floor, Conference Rooms 987/989, 6701 Democracy Boulevard, Bethesda, MD 20892 (Virtual Meeting).

Open: September 18, 2020, 11:00 a.m. to 3:00 p.m.

Agenda: Report from the Institute Director and other staff.

Place: National Institutes of Health, One Democracy Plaza, 9th Floor, Conference Rooms 987/989, 6701 Democracy Boulevard, Bethesda, MD 20892 (Virtual Meeting).

Contact Person: Anna L. Ramsey-Ewing, Ph.D., Executive Secretary, National Center for Advancing Translational Sciences, 1 Democracy Plaza, Room 1072, Bethesda, MD 20892, 301-435-0809, anna.ramseyewing@nih.gov.

Any interested person may file written comments with the committee by forwarding the statement to the Contact Person listed on this notice. The statement should include the name, address, telephone number and when applicable, the business or professional affiliation of the interested person.

(Catalogue of Federal Domestic Assistance Program Nos. 93.859, Pharmacology, Physiology, and Biological Chemistry Research; 93.350, B—Cooperative Agreements; 93.859, Biomedical Research and Research Training, National Institutes of Health, HHS)

Dated: August 11, 2020.
Melanie J. Pantoja,
Program Analyst, Office of Federal Advisory Committee Policy.

[FR Doc. 2020-17858 Filed 8-13-20; 8:45 am]

BILLING CODE 4140-01-P